ENVIRONMENTAL PROTECTION AGENCY

[FRL-7965-3]

Proposed Approval of Central Characterization Project's Transuranic Waste Characterization Program at Idaho National Laboratory

AGENCY: Environmental Protection Agency.

ACTION: Notice of availability; opening of public comment period.

SUMMARY: The Environmental Protection Agency (EPA) is announcing the availability of, and soliciting public comments on the proposed approval of the transuranic (TRU) radioactive waste characterization program implemented by the Central Characterization Project (CCP) at Idaho National Laboratory (INL). INL CCP is characterizing waste from the Advanced Mixed Waste Treatment Project (AMWTP) and the Idaho Closure Project (ICP), respectively, for disposal at the Department of Energy's (DOE) Waste Isolation Pilot Plant (WIPP).

In accordance with the EPA's WIPP Compliance Criteria, EPA inspected the INL CCP's characterization of TRU debris waste, solid waste and soil/gravel waste from May 3-5, 2005. EPA's inspection team determined that the INL CCP waste characterization program was technically adequate, and therefore, EPA is proposing to approve the INL CCP waste characterization program in the configuration observed during the inspection and as described in EPA's inspection report. In addition to proposing the approval of the INL CCP waste characterization program, EPA is proposing a tiered structure for reporting changes to the waste characterization program demonstrated by INL CCP. The results of the EPA's evaluation of the INL CCP program and the proposed approval are described in the EPA's inspection report which is available for review in the public dockets listed in ADDRESSES. We will consider public comments received on or before the due date mentioned in DATES.

This notice summarizes the waste characterization processes EPA evaluated and EPA's proposed approval. As required by the 40 CFR 194.8, at the end of a 45-day comment period EPA will evaluate public comments, address relevant public comments in the final inspection report, and issue the final report and an approval letter to the DOE Carlsbad Field Office (CBFO). INL CCP is currently authorized to characterize TRU waste, however, INL CCP waste is not eligible for disposal at WIPP until EPA issues an approval letter to DOE.

DATES: EPA is requesting public comment on the docketed document. Comments must be received by EPA's official Air Docket on or before October 24, 2005.

ADDRESSES: Comments may be submitted by mail to: EPA Docket Center (EPA/DC), Air and Radiation Docket, Environmental Protection Agency, EPA West, Mail Code 6102T, 1200 Pennsylvania Avenue, NW., Washington, DC 20460. Attention Docket ID No. OAR-2005-0162. Comments may also be submitted electronically, by facsimile, or through hand delivery/courier. Follow the detailed instructions as provided in Unit I.B of the SUPPLEMENTARY INFORMATION section.

FOR FURTHER INFORMATION CONTACT: Rajani Joglekar, Office of Radiation and Indoor Air, (202) 343-9462. You can also call EPA's toll-free WIPP Information Line, 1-800-331-WIPP or visit our Web site at http://www.epa/gov/radiation/wipp.

SUPPLEMENTARY INFORMATION:

I. General Information

A. How Can I Get Copies of This Document and Other Related Information?

1. Docket. EPA has established an official public docket for this action under Docket ID No. OAR-2005-0162. The official public docket consists of the documents specifically referenced in this action, any public comments received, and other information related to this action. Although a part of the official docket, the public docket does not include any Confidential Business Information (CBI) or other information whose disclosure is restricted by statute. The official public docket is the collection of materials that is available for public viewing at the Air and Radiation Docket in the EPA Docket Center, (EPA/DC) EPA West, Room B102, 1301 Constitution Ave., NW., Washington, DC. The EPA Docket Center Public Reading Room is open from 8:30 a.m. to 4:30 p.m., Monday through Friday, excluding legal holidays. The telephone number for the Public Reading Room is (202) 566-1744, and the telephone number for the Air and Radiation Docket is (202) 566-1742. These documents are also available for review in paper form at the official EPA Air Docket in Washington, DC, Docket No. A-98-49, Category II-A2, and at the following three EPA WIPP informational docket locations in New Mexico: In Carlsbad at the Municipal Library, Hours: Monday-Thursday, 10 a.m.-9 p.m., Friday-Saturday, 10 a.m.-6 p.m., and Sunday, 1 p.m.-5 p.m.; in Albuquerque at the Government Publications Department, Zimmerman Library, University of New Mexico, Hours: Vary by semester; and in Santa Fe at the New Mexico State Library, Hours: Monday-Friday, 9 a.m.-5 p.m. As provided in EPA's regulations at 40 CFR part 2, and in accordance with normal EPA docket procedures, if copies of any docket materials are requested, a reasonable fee may be charged for photocopying.

2. Electronic Access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket identification number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

For additional information about EPA's electronic public docket visit EPA Dockets online or see 67 FR 38102, May 31, 2002.

B. How and To Whom Do I Submit Comments?

You may submit comments electronically, by mail, by facsimile, or through hand delivery/courier. To ensure proper receipt by EPA, identify the appropriate docket identification number in the subject line on the first page of your comment. Please ensure that your comments are submitted within the specified comment period. Comments received after the close of the comment period will be marked “late.” EPA is not required to consider these late comments. However, late comments may be considered if time permits.

1. Electronically. If you submit an electronic comment as prescribed below, EPA recommends that you include your name, mailing address, and an e-mail address or other contact information in the body of your comment. Also include this contact information on the outside of any disk or CD-ROM you submit, and in any cover letter accompanying the disk or CD-ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket, and follow the online instructions for submitting comments. To access EPA's electronic public docket from the EPA Internet Home Page, select “Information Sources,” “Dockets,” and “EPA Dockets.” Once in the system, select “search,” and then key in Docket ID No. OAR-2005-0162. The system is an “anonymous access” system, which means EPA will not know your identity, e-mail address, or other contact information unless you provide it in the body of your comment.

ii. E-mail. Comments may be sent by electronic mail (e-mail) to a-and-r-docket@epa.gov, Attention Docket ID No. OAR-2005-0162. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

2. By Mail. Send your comments to: EPA Docket Center (EPA/DC), Air and Radiation Docket, Environmental Protection Agency, EPA West, Mail Code 6102T, 1200 Pennsylvania Avenue, NW., Washington, DC 20460. Attention Docket ID No. OAR-2005-0162.

3. By Hand Delivery or Courier. Deliver your comments to: Air and Radiation Docket, EPA Docket Center, (EPA/DC) EPA West, Room B102, 1301 Constitution Ave., NW., Washington, DC, Attention Docket ID No. OAR-2005-0162. Such deliveries are only accepted during the Docket's normal hours of operation as identified in Unit I.A.1.

4. By Facsimile. Fax your comments to: (202) 566-1741, Attention Docket ID. No. OAR-2005-0162.

C. What Should I Consider as I Prepare My Comments for EPA?

You may find the following suggestions helpful for preparing your comments:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your comments by the comment period deadline identified.

8. To ensure proper receipt by EPA, identify the appropriate docket identification number in the subject line on the first page of your response. It would also be helpful if you provided the name, date, and Federal Register citation related to your comments.

II. Background

DOE is operating the WIPP near Carlsbad in southeastern New Mexico as a deep geologic repository for disposal of TRU radioactive waste. As defined by the WIPP Land Withdrawal Act (LWA) of 1992 (Pub. L. 102-579), as amended (Pub. L. 104-201), TRU waste consists of materials containing processes having atomic numbers greater than 92 (with half-lives greater than twenty years), in concentrations greater than 100 nanocuries of alpha-emitting TRU isotopes per gram of waste. Much of the existing TRU waste consists of items contaminated during the production of nuclear weapons, such as rags, equipment, tools, and sludges.

On May 13, 1998, EPA announced its final compliance certification decision to the Secretary of Energy (published May 18, 1998, 63 FR 27354). This decision stated that the WIPP will comply with EPA's radioactive waste disposal regulations at 40 CFR part 191, subparts B and C. WIPP began receiving shipments of TRU radioactive waste in March 1999.

The final WIPP certification decision includes conditions that (1) prohibit shipment of TRU waste for disposal at WIPP from any site other than the Los Alamos National Laboratories (LANL) until the EPA determines that the site has established and executed a quality assurance program, in accordance with §§ 194.22(a)(2)(i), 194.24(c)(3), and 194.24(c)(5) for waste characterization activities and assumptions (Condition 2 of appendix A to 40 CFR part 194); and (2) with limited exceptions, until EPA has approved the procedures developed to comply with the waste characterization requirements of § 194.22(c)(4) (Condition 3 of appendix A to 40 CFR part 194), LANL or any other site may not ship TRU waste for disposal at WIPP. The EPA's approval process for waste generator sites is described in § 194.8.

In July 2004, EPA promulgated changes to the “Criteria for the Certification and Recertification of the Waste Isolation Pilot Plant's Compliance with Disposal Regulations' (69 FR 42571-42583, July 16, 2004). Some of these changes modified EPA's approval of waste characterization (WC) programs at DOE's TRU waste sites. EPA will now conduct baseline inspections for each waste generator site that is characterizing contact-handled (CH) TRU waste. During a baseline inspection EPA evaluates a waste characterization program by sampling the equipment, procedures and personnel training, qualifications and experience that are involved in several WC processes. EPA will then propose to approve a site's TRU waste characterization program based on the waste characterization ability demonstrated during the inspection. As a part of the approval, EPA will also specify how changes to an approved WC program must be reported to EPA. EPA will designate changes to an approved waste characterization program as Tier 1 (T1) or Tier 2 (T2) depending on their potential impact on data quality. A T1 designation requires DOE to notify EPA of proposed changes to an approved WC program prior to implementing the change. EPA may choose to inspect a site before approving changes. A T2 designation allows DOE to implement changes to an approved WC process component without EPA approval, however, DOE is required to notify EPA of such changes. EPA may continue to conduct inspections at any time to evaluate waste characterization programs at the approved sites under the authority of § 194.24(h).

The new site inspection and approval process requires EPA to issue a Federal Register notice proposing the baseline compliance decision, docket the inspection report for public review, and seek public comment on the proposed decision for a period of 45 days.

III. Proposed Baseline Compliance Decision

The CBFO Quality Assurance (QA) Manager sent an e-mail March 14, 2005, notifying EPA that INL-CCP was prepared to ship waste and wants to demonstrate to EPA its ability to properly characterize TRU waste and meet regulatory requirements. EPA performed a baseline inspection (EPA Inspection No. EPA-INL-CCP-05.05-8) of the TRU waste characterization activities of the DOE's Central Characterization Project (CCP) at the Idaho National Laboratory (INL) from May 3-5, 2005. The CCP is a mobile characterization program that assists TRU waste generator sites with waste characterization activities. Regardless of the CCP location, EPA evaluates and approves all sites that utilize the CCP as an independent waste characterization site. At INL, the CCP is characterizing waste from the Advanced Mixed Waste Treatment Project (AMWTP) and the Idaho Closure Project (ICP).

The purpose of EPA's inspection of INL CCP was to evaluate the adequacy of the sites's WC programs for the contact-handled (CH) TRU waste intended to be disposed at WIPP. EPA's inspection focused on equipment, procedures and personnel training/qualifications and experience for the following waste characterization processes: acceptable knowledge (AK), non-destructive assay (NDA), visual examination technique (VET) for newly-generated waste, visual examination/real-time radiography (VE/RTR) of retrievably-stored waste, load management, and the WIPP Waste Information System (WWIS). The activities examined during the inspection included:

—AK and load management for the AMWTP's CH, retrievably-stored, TRU debris waste and solid waste.

—VET for CH, newly-generated, debris waste, solid waste and soil/gravel waste from ICP, Pit 4.

—VE/RTR for the AMWTP's CH, retrievably-stored, debris waste and solid waste.

—NDA and the WWIS for CH, retrievably-stored, and newly-generated, debris waste, solid waste, and soil/gravel waste from AMWTP and ICP, Pit 4.

In addition to reviewing individual components (procedures and equipment) of each of the WC processes, EPA interviewed and reviewed training records of the personnel responsible for compiling data, analyzing waste contents, operating equipment, and preparing data for WWIS tracking.

EPA also required radioassay replicate analysis on containers from the five waste categories that INL CCP is currently characterizing. The purpose of the replicate testing is to enable EPA to verify that the radioassay equipment being assessed for approval can provide consistent, reproducible results for determining the quantity of each of the 10 WIPP-tracked radionuclides (241Am, 137Cs, 238Pu, 239Pu, 240Pu, 242Pu, 90Sr, 233U, 234U, and 238U) and the TRU alpha concentration.

At the time of the inspection, EPA identified no findings and two (2) concerns for the INL CCP waste characterization program. At the end of the inspection EPA gave DOE a written description of the concerns. Prior to the end of the inspection, DOE responded to EPA's concerns. EPA evaluated DOE's response for completeness and adequacy, and concluded that the corrective actions taken by DOE adequately resolved EPA's concerns. The details of EPA's findings and concerns from the INL CCP inspection can be found in the inspection report.

Based on the results of the inspection discussed in EPA's report, EPA is proposing to approve the INL CCP waste characterization program in the configuration observed during this inspection. This includes the following:

(1) AK and load management process for CH retrievable-stored, TRU debris and solid waste stored at AMWTP.

(2) Three non-destructive assay systems (Tomographic Gamma Scanner, Waste Assay Gamma Spectrometer, SWEPP Gamma-Ray Spectrometer) for assaying CH TRU solid, soil/gravel, and debris waste.

(3) VE as a quality control check of the RTR process and RTR of CH retrievably-stored, solid and debris waste.

(4) VET process for newly-generated debris, solid, and soil/gravel waste.

(5) WWIS process for tracking of waste contents of debris, solid, and soil/gravel waste.

EPA proposes to approve CCP's TRU waste characterization processes listed above. This approval does not cover remote-handled TRU waste.

Any changes to the waste characterization program from the baseline inspection must be reported to, and, if applicable, approved by EPA according to the following table. Additional details for the tiering designation can be found in EPA's inspection report.

Tiering of TRU Waste Characteristics Processes Implemented by CCP at INL (Based on May 3-5, 2005 Baseline Inspection)
WC process elements | INL-CCP WC process specific T1 changes | INL-CCP WC process specific T2 changes * | INL-CCP general T2 changes *
AK including load management | Any new waste category Changes to WWIS algorithms specific to load management | Updates or additions to Waste Stream Profile Forms for waste stream(s) within an approved waste category Changes to load management status of approved waste stream(s) | Changes to site procedures requiring CBFO approvals. Changes in key areas of expertise.
NDA | New equipment of physical modifications to approved equipment Changes to approved calibration range for approved equipment | Changes to software for approved equipment Changes to operating range(s) upon CBFO approval | Same as above.
RTR | N/A | New equipment or changes to approved equipment | Same as above.
VE and VET | N/A | N/A | Same as above.
WWIS | N/A | N/A | Same as above.
* Upon receiving EPA approval, every three (3) months INL-CCP will report to EPA all T2 changes.

Availability of the Baseline Inspection Report for Public Comment

EPA is seeking public comment on our proposed approval of the INL CCP waste characterization program and the proposed tiering structure for changes to the INL CCP waste characterization program. EPA's inspection report of INL CCP's waste characterization program is in the public dockets described in ADDRESSES. This report can also be found online in EDOCKET ID No. OAR-2005-0162 and at our Web site at http://www.epa.gov/radiation/wipp. In accordance with 40 CFR 194.8, EPA is providing the public 45 days to comment on EPA's proposed approval and inspection report.

EPA will evaluate public comments and revise the inspection report as necessary. If appropriate, EPA will then issue a final inspection report and a letter to DOE approving the INL CCP waste characterization program for disposal of TRU waste at WIPP. Any approval letter and final inspection report will be available from the DOCKETS and from our WIPP Web site. EPA will not make a determination regarding the approval of the INL CCP waste characterization program before the end of the 45-day comment period ends.

Dated: August 3, 2005.
William L. Wehrum,
Acting Assistant Administrator for Air and Radiation.

[FR Doc. 05-17926 Filed 9-8-05; 8:45 am]

BILLING CODE 6560-50-P